DEPARTMENT OF TRANSPORTATION

Coast Guard

33 CFR Part 100

[CGD 13-01-008]

RIN 2115-AE46

Date Change for Special Local Regulation (SLR), Seattle National Maritime Week Tugboat Race

AGENCY: Coast Guard, DOT.

ACTION: Notice of change in implementation.

SUMMARY: The Coast Guard announces a change to the effective date for the Seattle National Maritime Week Tugboat Race Special Local Regulation (SLR) as per 33 CFR 100.1306(c). This year's event will be held on Saturday, May 12th, 2001, necessitating this effective date change.

DATES: 33 CFR 100.1306 is effective May 12, 2001, from 12 p.m. to 4:30 p.m.

Dated: May 3, 2001.
M.D. Dawe,
Commander, U.S. Coast Guard, Commander, Group Seattle.

[FR Doc. 01-11847 Filed 5-9-01; 8:45 am]

BILLING CODE 4910-15-P